DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Wednesday, November 29, 2006, starting at 9 a.m. Pacific Standard Time. Arrange for oral presentations by November 15, 2006.

ADDRESSES: Courtyard Marriott, 400 Andover Park West, Tukwila, Washington 98118 (Room to be determined).

FOR FURTHER INFORMATION CONTACT: Nicanor Davidson, Office of Rulemaking, ARM-207, FAA, 800 Independence Avenue, SW., Washington, DC 20591, Telephone (202) 267-5174, FAX (202) 267-5075, or e-mail at nicanor.davidson@faa.gov.

SUPPLEMENTARY INFORMATION: Pursuant to Section 10(a)(2) of the Federal Advisory Committee Act (Pub. L. 92-463; 5 U.S.C. app. III), notice is given of an ARAC meeting to be held November 29, 2006, at the Courtyard Marriott, 400 Andover Park West, Tukwila, Washington 98118.

The agenda for the meeting is as follows:

• Opening Remarks.

• FAA Report.

• Transport Canada Report.

• European Aviation Safety Agency Report.

• ARAC Executive Committee Report.

• Ice Protection Harmonization Working Group (HWG) Report.

• Avionics HWG Report.

• Airplane-level Safety Analysis Working Group Report.

• Airworthiness Assurance WG (AAWG) Report.

• FAA discussion on the Widespread Fatigue Damage Notice of Proposed Rulemaking. and differences with the AAWG ARAC recommendation.

• Action Item Review.

Attendance is open to the public, but will be limited to the availability of meeting room space. Please confirm your attendance with the person listed in the FOR FURTHER INFORMATION CONTACT section no later than November 15, 2006. Please provide the following information: Full legal name, country of citizenship, and name of your industry association, or applicable affiliation. If you are attending as a public citizen, please indicate so.

For persons participating by telephone, the call-in number is (202) 366-3920; the Passcode is “1158”. To insure that sufficient telephone lines are available, please notify the person listed in the FOR FURTHER INFORMATION CONTACT section of your intent to participate by telephone by November 15, 2006. Anyone calling from outside the Washington, DC metropolitan area will be responsible for paying long-distance charges.

The public must make arrangements by November 15, 2006, to present oral statements at the meeting. Written statements may be presented to the committee at any time by providing 25 copies to the Assistant Executive Director for Transport Airplane and Engine Issues or by providing copies at the meeting. Copies of the document to be presented to ARAC for decision by the FAA may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on October 23, 2006.
Eve Adams,
Acting Director, Office of Rulemaking.

[FR Doc. E6-18146 Filed 10-27-06; 8:45 am]

BILLING CODE 4910-13-P